ENVIRONMENTAL PROTECTION AGENCY

[OPPTS-00735; FRL-6797-7]

Technical Briefing on Background and Hazard Methodology; Revised Relative Potency Factor; Notice of Public Meeting

AGENCY: Environmental Protection Agency (EPA).

ACTION: Notice.

SUMMARY: EPA is announcing a public technical briefing for August 22, 2001, to provide background information on cumulative risk assessment methods, in general, and the current status of the work on the organophosphate (OP) cumulative risk assessment. Particular attention will be given to the hazard portion of the OP assessment. For cumulative assessments, before a risk assessment can be done, the chemicals must be ranked according to their ability to produce the toxic effect of concern. This ability is quantified by a “potency” value. After the potency of each chemical is calculated, an index chemical is selected. This method to estimate the relative potency has been termed the “relative potency factor” method. The result of the method is the determination of a relative potency factor (RPF) for each chemical. The briefing will focus on the recently released paper, “Preliminary Cumulative Hazard and Dose-Response Assessment for Organophosphorus Pesticides and Points of Departure for Cholinesterase Inhibition,” which explains the method that has been used to determine the relative potency factors for the OPs and the selection of the index chemical. This paper will also be the subject of a meeting of the Federal Insecticide, Fungicide, and Rodenticide Act (FIFRA) Scientific Advisory Panel (SAP) on September 5-6, 2001. At the technical briefing, the hazard methodology will be explained in some detail and in terms appropriate for a non-scientific audience.

DATES: The meeting will be held on Wednesday, August 22, 2001, from 9 a.m. to 5 p.m.

ADDRESSES: The meeting will be held at the Hilton Alexandria Old Town, 1767 King Street, Alexandria, VA (directly across from the King Street Metro Station).

FOR FURTHER INFORMATION CONTACT: Kathy Monk, Special Review and Reregistration Division, Office of Pesticides Program (7508C), Environmental Protection Agency, 1200 Pennsylvania Ave., NW., Washington, DC 20460; telephone number: (703) 308-8071; e-mail address: monk.kathy@epa.gov.

SUPPLEMENTARY INFORMATION:

I. General Information

A. Does this Notice Apply to Me?

This action is directed to the public in general. This action may, however, be of interest to persons who are concerned about implementation of the Food Quality Protection Act (FQPA). Passed in 1996, this new law strengthens the nation's system for regulating pesticides on food. Participants may include environmental/public interest and consumer groups; industry and trade associations; pesticide user and grower groups; Federal, State, and local governments; food processors; academia; general public; etc. Since other entities may also be interested, the Agency has not attempted to describe all the specific entities that may be affected by this action. If you have any questions regarding the applicability of this action to a particular entity, consult the person listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an administrative record for this meeting under docket control number OPPTS-00735. The administrative record consists of the documents specifically referenced in this notice and other information related to the cumulative risk assessment of organophosphate pesticides. This administrative record includes the documents that are physically located in the docket, as well as the documents that are referenced in those documents. The public version of the administrative record is available for inspection in the Public Information and Records Integrity Branch (PIRIB), Information Resources and Services Division, Office of Pesticide Programs (OPP), Environmental Protection Agency, Rm. 119, Crystal Mall #2, 1921 Jefferson Davis Hwy., Arlington, VA. The PIRIB is open from 8:30 a.m. to 4 p.m., Monday through Friday, excluding legal holidays. The telephone number for the PIRIB is (703) 305-5805.

II. How Can I Request To Participate in this Meeting?

This meeting is open to the public. Outside statements by observers are welcome. Oral statements will be limited to 3 to 5 minutes, and it is preferred that only one person per organization present the statement. Any person who wishes to file a written statement may do so before or after the meeting. These statements will become part of the permanent record and will be available for public inspection at the address listed in Unit II.B. of this document.

List of Subjects

Environmental protection, Pesticides, agriculture, chemicals, cumulative risk.

Dated: August 7, 2001.
Marcia E. Mulkey,
Director, Office of Pesticide Programs.

[FR Doc. 01-20666 Filed 8-15-01; 8:45 am]

BILLING CODE 6560-50-S